Title 3—

The President

Proclamation 9568 of January 13, 2017

Martin Luther King, Jr., Federal Holiday, 2017

By the President of the United States of America

A Proclamation

When the Reverend Dr. Martin Luther King, Jr., shared his dream with the world atop the steps of the Lincoln Memorial, he gave mighty voice to our founding ideals. Few could have imagined that nearly half a century later, his iconic profile would forever be memorialized in stone, standing tall and gazing outward, not far from where he stirred our collective conscience to action. In summoning a generation to recognize the universal threat of injustice anywhere, Dr. King's example has proven that those who love their country can change it.

A foot soldier for justice and a giant of the Civil Rights Movement, Dr. King lifted the quiet hopes of our Nation with the powers of his voice and pen. Whether behind his pulpit in Montgomery, at a podium on the National Mall, or from his jail cell in Birmingham, he beckoned us toward justice through non-violent resistance and oratory skill. Dr. King fought not merely for the absence of oppression but for the presence of opportunity. His soaring rhetoric impelled others to take up his cause, and with struggle and discipline, persistence and faith, those who joined him on his journey began to march. America was watching, and so they kept marching; America was listening, and so they kept sounding the call for justice. Because they kept moving forward with unwavering resistance, they changed not only laws but also hearts and minds. And as change rippled across the land, it began to strengthen over time, building on the progress realized on buses, in schools, and at lunch counters so that eventually, it would reverberate in the halls of government and be felt in the lives of people across our country.

Those who dismiss the magnitude of the progress that has been made dishonor the courage of all who marched and struggled to bring about this change—and those who suggest that the great task of extending our Nation's promise to every individual is somehow complete neglect the sacrifices that made it possible. Dr. King taught us that “The ultimate measure of a man is not where he stands in moments of convenience and comfort, but where he stands at times of challenge and controversy.” Although we do not face the same challenges that spurred the Civil Rights Movement, the fierce urgency of now—and the need for persistence, determination, and constant vigilance—is still required for us to meet the complex demands and defeat the injustices of our time. With the same iron will and hope in our hearts, it is our duty to secure economic opportunity, access to education, and equal treatment under the law for all. The arc of the moral universe may bend toward justice, but it only bends because of the strength and sacrifice of those who reject complacency and drive us forward.

As we reflect on Dr. King's legacy, we celebrate a man and a movement that transformed our country, and we remember that our freedom is inextricably bound to the freedom of others. Given the causes he championed—from civil rights and international peace to job creation and economic justice—it is right that today we honor his work by serving others. Now more than ever, we must heed his teachings by embracing our convictions. We must live our values, strive for righteousness, and bring goodness to others. And at a time when our politics are so sharply polarized and people are losing faith in our institutions, we must meet his call to stand in another person's shoes and see through their eyes. We must work to understand the pain of others, and we must assume the best in each other. Dr. King's life reminds us that unconditional love will have the final word—and that only love can drive out hate.

Only by drawing on the lessons of our past can we ensure the flame of justice continues to shine. By standing up for what we know to be right and speaking uncomfortable truths, we can align our reality closer with the ideal enshrined in our founding documents that all people are created equal. In remembering Dr. King, we also remember that change has always relied on the willingness of our people to keep marching forward. If we do, there is no mountaintop or promised land we cannot reach.

NOW, THEREFORE, I, BARACK OBAMA, President of the United States of America, by virtue of the authority vested in me by the Constitution and the laws of the United States, do hereby proclaim January 16, 2017, as the Martin Luther King, Jr., Federal Holiday. I encourage all Americans to observe this day with appropriate civic, community, and service projects in honor of Dr. King and to visit www.MLKDay.gov to find Martin Luther King, Jr., Day of Service projects across our country.

IN WITNESS WHEREOF, I have hereunto set my hand this thirteenth day of January, in the year of our Lord two thousand seventeen, and of the Independence of the United States of America the two hundred and forty-first.

[FR Doc. 2017-01484

Filed 1-18-17; 11:15 am]

Billing code 3295-F7-P